DEPARTMENT OF AGRICULTURE

Forest Service

Coconino and Tonto National Forests; Arizona; Fossil Creek Wild and Scenic River Comprehensive River Management Plan and Environmental Impact Statement

AGENCY: Forest Service, USDA.

ACTION: Revised notice of intent to extend the scoping period for the Fossil Creek Wild and Scenic River Environmental Impact Statement and Comprehensive River Management Plan.

SUMMARY: The Coconino and Tonto national forests published a Notice of Intent in the Federal Register on November 29, 2016 for the Fossil Creek Wild and Scenic River Environmental Impact Statement and Comprehensive River Management Plan. This notice extends the comment period to January 27, 2017.

DATES: Comments concerning the scope of the analysis must be received by January 27, 2017. The draft environmental impact statement is expected in summer 2017, and the final environmental impact statement is expected in spring 2018.

ADDRESSES: Send written comments via email to comments-southwestern-coconino-redrock@fs.fed.us (include “Fossil Creek CRMP” in the subject line); via mail to Coconino National Forest, Attention: Fossil Creek CRMP, P.O. Box 20429, Sedona, AZ 86341; via facsimile to (928) 203-7539; or in person at the Red Rock Ranger District Office, 8375 State Route 179, Sedona, AZ 86351.

FOR FURTHER INFORMATION CONTACT: Contact Marcos Roybal, Fossil Creek Project Coordinator, by email at maroybal@fs.fed.us or by phone at (928) 203-2915. For information about the project, including proposed alternatives and other project documents, visit http://tinyurl.com/FossilCreekCRMP. Hard copy documents may be requested from the phone number above.

Individuals who use telecommunication devices for the deaf (TDD) may call the Federal Information Relay Service (FIRS) at 1 (800) 877-8339 between 8 a.m. and 8 p.m., Eastern Time, Monday through Friday.

SUPPLEMENTARY INFORMATION:

Purpose and Need for Action

The purpose of the project is to prepare a CRMP for the Fossil Creek Wild and Scenic River to meet the requirements of Section 3(d)(1) of the WSRA. The CRMP is needed to provide for the protection or enhancement of Fossil Creek's water quality, free-flowing condition, and its ORVs, and to fulfill WSRA Section 3(b) requirements to establish river corridor boundaries and recreation and wild segment classifications.

Since the decommissioning of a historic hydropower dam in 2005, public use dramatically increased as visitors sought to explore the heavily publicized Arizona landscape. Recreational use during the high-use season (June-September), for example, increased from an estimated 20,000 visitors in 2006 to approximately 80,000 visitors by 2013, with thousands turned away daily at the entrance barricades due to overcrowding. River values that need protection from impacts of recreational use include water quality, recreation, geology, Western Apache traditional and contemporary cultural values, and biological values (especially the high diversity of fish and wildlife species). Impacts have resulted from uncontrolled dispersed camping, creation of unapproved camp sites, creation of unplanned trail systems, excessive littering, and human waste near the creek. Monitoring since 2011 indicates there are increasing impacts to upland vegetation that is habitat for wildlife species; damage to heritage sites; and unsafe conditions for visitors, Forest Service personnel and emergency responders. In April 2016, an interim management reservation system was successfully implemented to reduce the daily capacity of visitors during the high-use season; this interim management reservation system will remain in place until the CRMP's completion.

Proposed Action

The Coconino and Tonto National Forests propose to establish a CRMP to guide management of the designated 17-mile Fossil Creek Wild and Scenic River corridor and to protect or enhance the area's outstandingly remarkable values. Within a range of alternatives, the proposed action is designated to include the most flexibility to increase capacity and recreation infrastructure—maximizing recreation opportunities in the future—while providing protection for sensitive river and tribal values at the same time through both a management plan and site-specific actions. Project actions would address recreation capacity, corridor access, recreation facilities, services, and public health and safety.

During all or part of the year, a reservation system would manage visitor use by limiting the number of people at one time (PAOT) in the river corridor. The initial PAOT in the river corridor would be set at the current 2016 reservation management level—approximately 154 vehicles and 780 PAOT, including administrative use. Over time, if appropriate, adaptive management would increase capacity to a permitted maximum of approximately 338 vehicles and 1,705 PAOT if infrastructure is built, management capacity allows, and visitor behavior promotes sustainable river value protection. The proposed action also includes the following potential elements:

• Existing recreation sites would be expanded, particularly at the Irving site.

• Additional trails would be developed to link recreation sites and provide a greater variety of opportunities for a different hiking levels.

• A portion of Forest Road 708 would become a motorized trail.

• A limited amount of camping would be allowed at designated sites.

• Opportunities for outfitters/guides and concessionaries would be provided.

• Limited or no waterplay would exist at some creek locations due to cultural or natural resource issues.

• Some system routes would be closed or decommissioned, and other restoration actions would occur.

The existing Coconino and Tonto Forest Plans would be programmatically amended under the 2012 Planning Rule to incorporate management direction for the Fossil Creek WSR corridor. The proposed amendments would add, replace, delete or revise (as needed) direction for the management of the Wild and Scenic River corridor.

Possible Alternatives

A range of alternatives to the proposed action, including a no action alternative and three additional action alternatives, are being considered. The no action alternative (Alternative A) represents no change (a CRMP would not be established) and serves as the baseline for comparison of the effects of the action alternatives. The four action alternatives, which are based on extensive public engagement that has occurred since 2010, include: Alternative B (Enhanced Protections), Alternative C (Non-motorized Experience), Alternative D (Motorized Use and Refugia), and Alternative E (Long-term Adaptive Management—Proposed Action). More detailed descriptions of the proposed action and alternatives can be found online at http://tinyurl.com/FossilCreekCRMP or be requested through the contact information provided above.

Lead and Cooperating Agencies

Arizona Game and Fish Department has cooperating agency status in order to assist the Coconino and the Tonto National Forests in the preparation of the Fossil Creek Wild and Scenic River CRMP and EIS.

Responsible Official

Laura Jo West, the Forest Supervisor on the Coconino National Forest, is the responsible official.

Nature of Decision To Be Made

Given the purpose and need of the project, the Coconino Forest Supervisor will review the proposed action, other alternatives, and the effects analysis in the EIS in order to determine: (1) Which alternative, or combination of alternatives, should be implemented; (2) what actions will be taken to protect and enhance the river's water quality, free-flowing condition and its ORVs, as required by WSRA; (3) the location and extent of infrastructure development, restoration activities, and changes in permitted visitor capacity; (4) the design features, mitigation measures and monitoring requirements; and, (5) consistency with the forest plans in place at the time of the decision and the need for amendments.

Preliminary Issues

Since 2010, public involvement regarding management of the Fossil Creek Wild and Scenic River has informed key issues and the alternatives that have been developed. Three key issues have arisen: (1) Recreation opportunities and recreational impacts on natural and cultural resources; (2) the level of recreation development; and (3) public health and safety. These issues form the basis for the alternatives presented in this Notice.

Scoping Process

The Notice of Intent published on November 29, 2016 initiated the scoping process, which guides the development of the environmental impact statement. Several scoping meetings have been held, and interested parties should check the Fossil Creek CRMP Web page at http://tinyurl.com/FossilCreekCRMP for information about these meetings. This revised Notice of Intent extends the scoping period to January 27, 2017.

This project is subject to the objection process pursuant to 36 CFR 218 and is not being authorized under the Healthy Forest Restoration Act (HFRA). As such, those who provide specific written comments during designated comment periods in accordance with 36 CFR 218.5 will be eligible to participate in the objection process. Issues raised in objections must be based on previously submitted timely, specific written comments regarding the proposed project unless new information arises after designated opportunities (36 CFR 218.7). Several previous scoping periods have occurred since 2010, and provide standing to object under 36 CFR 218 to those who commented during designated comment periods.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, but will not be eligible for objection per 36 CFR 218.5.

Dated: January 12, 2017.
Laura Jo West,
Coconino National Forest Supervisor.

[FR Doc. 2017-01191 Filed 1-18-17; 8:45 am]

BILLING CODE 3411-15-P